FEDERAL MARITIME COMMISSION

Ocean Transportation Intermediary License; Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Provex Lines Inc., 6581 NW. 82nd Avenue, Miami, FL 33166, Officer: Jose Arteaga, President, (Qualifying Individual)

Non-Vessel Operating Common Carrier and Ocean Freight Forwarder Transportation Intermediary Applicants

Legend Express Co., 960 E. 12th Street, Los Angeles, CA 90021, Officers: Gila Morad, President, Julito A. Pascua, Vice President of Sales, (Qualifying Individual).

Dated: April 27, 2001.
Bryant L. VanBrakle,
Secretary.

[FR Doc. 01-11020 Filed 5-1-01; 8:45 am]

BILLING CODE 6730-01-P